DEPARTMENT OF EDUCATION

Office of Postsecondary Education

[CFDA No. 84.345]

Notice Inviting Applications for Grants for the Underground Railroad Educational and Cultural Program for Fiscal Year (FY) 2001

Note to Applicants: This notice is a complete application package. Together with the statute authorizing the program and the Education Department General Administrative Regulations (EDGAR), the notice contains all of the information, application forms, and instructions you need to apply for a grant under this competition.

Purpose of Program: To provide grants to nonprofit educational organizations that are established to research, display, interpret, and collect artifacts relating to the history of the Underground Railroad.

Eligible Applicants: Nonprofit educational organizations that are established to research, display, interpret, and collect artifacts relating to the history of the Underground Railroad.

Deadline for Transmittal of Applications: April 27, 2001.

Deadline for Intergovernmental Review: June 29, 2001.

Available Funds: $1,750,000.

Estimated Range of Awards: $100,000 to $1,750,000.

Estimated Average Size of Awards: $580,000.

Estimated Number of Awards: 1-3.

Note: The Department is not bound by any estimates in this notice.

Project Period: 12 months.

Applicable Statute and Regulations: (a) Section 841 of the Higher Education Amendments of 1998, Public Law 105-244, 20 U.S.C. section 1153; and (b) the Education Department General Administrative Regulations (EDGAR) in 34 CFR parts 74, 75, 77, 79, 80, 82, 85, 86, 97, 98, and 99.

Description of Program: As required by statute, each nonprofit educational organization awarded a grant under this program must enter into an agreement with the Department. Each agreement must require the organization—(1) To establish a facility to house, display, and interpret the artifacts related to the history of the Underground Railroad, and to make the interpretive efforts available to institutions of higher education that award a baccalaureate or graduate degree; (2) To demonstrate substantial private support for the facility through the implementation of a public-private partnership between a State or local public entity and a private entity for the support of the facility. The private entity must provide matching funds for the support of the facility in an amount equal to 4 times the amount of the contribution of the State or local public entity, except that not more than 20 percent of the matching funds may be provided by the Federal Government; (3) To create an endowment to fund any and all shortfalls in the costs of the on-going operations of the facility; (4) To establish a network of satellite centers throughout the United States to help disseminate information regarding the Underground Railroad throughout the United States, if these satellite centers raise 80 percent of the funds required to establish the satellite centers from non-Federal public and private sources; (5) To establish the capability to electronically link the facility with other local and regional facilities that have collections and programs that interpret the history of the Underground Railroad; and (6) To submit, for each fiscal year for which the organization receives funding under this program, a report to the Department that contains—(a) A description of the programs and activities supported by the funding; (b) The audited financial statement of the organization for the preceding fiscal year; (c) A plan for the programs and activities to be supported by the funding, as the Secretary may require; and (d) An evaluation of the programs and activities supported by the funding, as the Secretary may require.

Selection Criteria: Applications for Underground Railroad Educational and Cultural Program grants will be evaluated using the following weighted selection criteria from section 841 of the Higher Education Amendments of 1998 and 34 CFR 75.210 of EDGAR. The maximum score for each criterion is indicated in parentheses. The maximum overall score is 100 points. Your grant application must carefully address each of the selection criteria and describe your efforts in these areas in detail.

(1) Overall Concept (20 points). How well the facility supported by the proposed grant would effectively house, display, and interpret artifacts related to the history of the Underground Railroad and make the interpretive efforts available to institutions of higher education that award a baccalaureate or graduate degree.

(2) Public-Private Support (20 points). How well the applicant organization demonstrates substantial private support for the facility through the implementation of a public-private partnership between a State or local public entity and a private entity for the support of the facility. The private entity must provide matching funds for the support of the facility in an amount equal to 4 times the amount of the contribution of the State or local public entity, except that not more than 20 percent of the matching funds may be provided by the Federal Government.

(3) Endowment (5 points). How well the applicant organization addresses the requirement to create an endowment to fund any and all shortfalls in the costs of the on-going operations of the facility.

(4) Satellite Centers (10 points). How well the applicant organization addresses the requirement to establish a network of satellite centers throughout the United States to disseminate information regarding the Underground Railroad and demonstrates the ability to raise 80 percent of the funds required from non-Federal public and private sources.

(5) Electronic Link (10 points). How well the applicant organization addresses the requirement to establish the capability to electronically link the facility with other local and regional facilities that have collections and programs which interpret the history of the Underground Railroad.

(6) Quality of Program Personnel (10 points). The Secretary considers the quality of the personnel who will carry out the proposed program. In determining the quality of project personnel, the Secretary considers the following: (a) The qualifications, including relevant training and experience of key personnel. (5 points) (b) The extent to which the applicant encourages applications for employment from persons who are members of groups that have traditionally been underrepresented based on race, color, national origin, gender, age, or disability. (5 points)

(7) Quality of Management Plan (15 points). The Secretary considers the quality of the management plan for the proposed grant program. In determining the quality of the management plan for the proposed project, the Secretary considers the following: (a) The adequacy of the management plan to achieve the objectives of the proposed project on time and within budget, including clearly defined responsibilities, timelines, and milestones for accomplishing project tasks. (5 points) (b) The adequacy of procedures for ensuring feedback and continuous improvement in the operation of the proposed project. (5 points) (c) How the applicant will ensure that a diversity of perspectives are brought to bear in the operation of the proposed project. (5 points)

(8) Quality of Project Evaluation (10 points). The Secretary considers the quality of the evaluation to be conducted of the proposed program. In determining the quality of the evaluation, the Secretary considers the following: (a) The extent to which the methods of evaluation are thorough, feasible, and appropriate to the goals, objectives, and outcomes of the proposed project. (7 points) (b) The extent to which the evaluation will provide guidance about effective strategies suitable for replication or testing in other settings. (3 points)

Intergovernmental Review of Federal Programs

This program is subject to the requirements of Executive Order 12372 (Intergovernmental Review of Federal Programs) and the regulations in 34 CFR part 79.

One of the objectives of the Executive order is to foster an intergovernmental partnership and a strengthened federalism. The Executive order relies on processes developed by State and local governments for coordination and review of proposed Federal financial assistance.

If you are an applicant, you must contact the appropriate State Single Point of Contact (SPOC) to find out about, and to comply with, the State's process under Executive Order 12372. If you propose to perform activities in more than one State, you should immediately contact the SPOC for each of these States and follow the procedure established in each State under the Executive order. If you want to know the name and address of any SPOC, see the latest official SPOC list on the web site of the Office of Management and Budget at the following address: http://www.whitehouse.gov/omb/grants

In States that have not established a process or chosen a program for review, State, areawide, regional and local entities may submit comments directly to the Department.

Any State Process Recommendation and other comments submitted by a SPOC and any comments from State, areawide, regional, and local entities must be mailed or hand-delivered by the date indicated in this application notice to the following address: The Secretary, E.O. 12372—CFDA 84.345, U.S. Department of Education, room 7E200, 400 Maryland Avenue, SW, Washington, D.C. 20202-0125.

We will determine proof of mailing under 34 CFR 75.102 (Deadline date for applications). Recommendations or comments may be hand-delivered until 4:30 p.m. (Washington, D.C. time) on the date indicated in this notice.

PLEASE NOTE THAT THE ABOVE ADDRESS IS NOT THE SAME ADDRESS AS THE ONE TO WHICH AN APPLICANT SUBMITS ITS COMPLETED APPLICATION. DO NOT SEND APPLICATIONS TO THE ABOVE ADDRESS.

Instructions for Transmittal of Applications

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

The U.S. Department of Education is expanding its pilot project of electronic submission of applications to include certain formula grant programs, as well as additional discretionary grant competitions. The Underground Railroad Educational and Cultural Program—CFDA 84.345 is one of the programs included in the pilot project. If you are an applicant under the Underground Railroad Educational and Cultural Program—CFDA 84.345, you may submit your application to us in either electronic or paper format.

The pilot project involves the use of the Electronic Grant Application System (e-APPLICATION, formerly e-GAPS) portion of the Grant Administration and Payment System (GAPS). We request your participation in this pilot project. We shall continue to evaluate its success and solicit suggestions for improvement.

If you participate in this e-APPLICATION pilot, please note the following:

• Your participation is voluntary.

• You will not receive any additional point value or penalty because you submit a grant application in electronic or paper format.

• You can submit all documents electronically, including the Application for Federal Assistance (ED 424), Budget Information—Non-Construction Programs (ED 524), and all necessary assurances and certifications.

• Fax a signed copy of the Application for Federal Assistance (ED 424) after following these steps:

1. Print ED 424 from the e-APPLICATION system.

2. Make sure that the institution's Authorizing Representative signs this form.

3. Before faxing this form, submit your electronic application via the e-APPLICATION system. You will receive an automatic acknowledgement, which will include a PR/Award number (an identifying number unique to your application).

4. Place the PR/Award number in the upper right hand corner of ED 424.

5. Fax ED 424 to the Application Control Center within three working days of submitting your electronic application. We will indicate a fax number in e-APPLICATION at the time of your submission.

• We may request that you give us original signatures on all other forms at a later date.

You may access the electronic grant application for the Underground Railroad Educational and Cultural Program at: http://e-grants.ed.gov.

We have included additional information about the e-APPLICATION pilot project (see Parity Guidelines between Paper and Electronic Applications) elsewhere in this notice.

If you want to apply for a grant and be considered for funding, you must meet the following deadline requirements:

(A) If You Send Your Application by Mail:

You must mail the original and two copies of the application on or before the deadline date to: U.S. Department of Education, Application Control Center, Attention: CFDA No. 84.345, Washington, DC 20202-4725.

You must show one of the following as proof of mailing:

(1) A legibly dated U.S. Postal Service postmark.

(2) A legible mail receipt with the date of mailing stamped by the U.S. Postal Service.

(3) A dated shipping label, invoice, or receipt from a commercial carrier.

(4) Any other proof of mailing acceptable to the Secretary.

If you mail an application through the U.S. Postal Service, we do not accept either of the following as proof of mailing:

(1) A private metered postmark.

(2) A mail receipt that is not dated by the U.S. Postal Service.

(B) If You Deliver Your Application by Hand:

You or your courier must hand deliver the original and two copies of the application by 4:30 p.m. (Washington, DC time) on or before the deadline date to: U.S. Department of Education, Application Control Center, Attention: CFDA No. 84.345, Room 3633, Regional Office Building 3, 7th and D Streets, SW., Washington, DC 20202.

The Application Control Center accepts application deliveries daily between 8:00 a.m. and 4:30 p.m. (Washington, DC time), except Saturdays, Sundays, and Federal holidays. The Center accepts application deliveries through the D Street entrance only. A person delivering an application must show identification to enter the building.

(C) If You Submit Your Application Electronically:

You must submit your grant application through the Internet using the software provided on the e-Grants Web site (http://e-grants.ed.gov) by 4:30 p.m. (Washington, DC time) on the deadline date.

The regular hours of operation of the e-Grants Web site are 6:00 a.m. until 12:00 midnight (Washington, DC time) Monday—Friday and 6:00 a.m. until 7:00 p.m. Saturdays. The system is unavailable on the second Saturday of every month, Sundays, and Federal holidays. Please note that on Wednesdays the Web site is closed for maintenance at 7:00 p.m. (Washington, DC time).

Notes:

(1) The U.S. Postal Service does not uniformly provide a dated postmark. Before relying on this method, you should check with your local post office.

(2) If you send your application by mail or deliver it by hand or by a courier service, the Application Control Center will mail a Grant Application Receipt Acknowledgment to you. If you do not receive the notification of application receipt within 15 days from the date of mailing the application, you should call the U.S. Department of Education Application Control Center at (202) 708-9493.

(3) You must indicate on the envelope and—if not provided by the Department—in Item 3 of the Application for Federal Education Assistance (ED 424; revised November 12, 1999) the CFDA number—and suffix letter, if any—of the competition under which you are submitting your application.

(4) If you submit your application through the Internet via the e-Grants Web site, you will receive an automatic acknowledgment when we receive your application.

Parity Guidelines Between Paper and Electronic Applications

The Department of Education is expanding the pilot project, which began in FY 2000, that allows applicants to use an Internet-based electronic system for submitting applications. This competition is among those that have an electronic submission option available to all applicants. The system, called e-APPLICATION, formerly e-GAPS (Electronic Grant Application Package System), allows an applicant to submit a grant application to us electronically, using a current version of the applicant's Internet browser. To see e-APPLICATION visit the following address: http://e-grants.ed.gov.

In an effort to ensure parity and a similar look between applications transmitted electronically and applications submitted in conventional paper form, e-APPLICATION has an impact on all applicants under this competition.

Users of e-APPLICATION, a data driven system, will be entering data on-line while completing their applications. This will be more interactive than just e-mailing a soft copy of a grant application to us. If you participate in this voluntary pilot project by submitting an application electronically, the data you enter on-line will go into a database and ultimately will be accessible in electronic form to our reviewers.

This pilot project is another step in the Department's transition to an electronic grant award process. In addition to e-APPLICATION, the Department is conducting a limited pilot of electronic peer review (e-READER) and electronic annual performance reporting (e-REPORTS).

To help ensure parity and a similar look between electronic and paper copies of grant applications, we are asking each applicant that submits a paper application to adhere to the following guidelines:

• Submit your application on 8.5″ by 11″ paper.

• Leave a 1-inch margin on all sides.

• Use consistent font throughout your document. You may also use boldface type, underlining, and italics. However, please do not use colored text.

• Use black and white for illustrations, including charts, tables, graphs and pictures.

• For the narrative component, your application should consist of the number and text of each selection criterion followed by the narrative. The text of the selection criterion, if included, does not count against any page limitation.

• Place a page number at the bottom right of each page beginning with 1; and number your pages consecutively throughout your document.

Application Requirements: An application submitted for funding under this program must include—(1) The name, address, and web site address, if any, of the nonprofit educational organization seeking to participate, and the name, title, mailing and e-mail address, and telephone number of a contact person for the organization. (2) A description of the facility that will be used to house, display, and interpret the artifacts related to the history of the Underground Railroad and to make the interpretive efforts available to institutions of higher education that award a baccalaureate or graduate degree. (3) A description of the substantial private support for the facility through the implementation of a public-private partnership between a State or local public entity and a private entity for the support of the facility and documentation that these entities will provide matching funds as required in section 841(b)(2) of the Higher Education Amendments of 1998. (4) A description of how the endowment will be created to fund any and all shortfalls in the costs of the on-going operations of the facility and expected sources of these funds. (5) A statement as to whether the applicant organization intends to establish a network of satellite centers throughout the United States to help disseminate information regarding the Underground Railroad throughout the United States. If the applicant's organization does intend to establish a network, the applicant must describe the network and document how the satellite centers will raise 80 percent of the funds required from non-Federal public and private sources. (6) A detailed description of how the applicant intends to electronically link the facility with other local and regional facilities that have collections and programs which interpret the history of the Underground Railroad, including a listing of the facilities the applicant intends to include.

Application Instructions and Forms

To apply for an award under this program competition, your application must include the following parts:

1. Application for Federal Assistance (ED Form 424).

2. Budget Summary (ED Form 524).

3. Budget Narrative.

4. Project Narrative—Applicants should submit a narrative that addresses the elements described in this notice under Application Requirements.

5. Assurances and Certifications.

a. Assurances—Non Construction Programs (Standard Form 424B).

b. Certification regarding Lobbying; Debarment, Suspension, and Other Responsibility Matters; and Drug-Free Workplace Requirements (ED 80-0013) and Instructions.

c. Certification regarding Debarment, Suspension, Ineligibility and Voluntary Exclusion: Lower Tier Covered Transactions (ED 80-0014) and Instructions.

Note: ED 80-0014 is intended for the use of grantees and should not be transmitted to the Department.)

d. Disclosure of Lobbying Activities (Standard Form LLL-A) (if applicable) and Instructions, and Disclosure of Lobbying Activities Continuation Sheet (Standard Form LLL-A).

Applications must be postmarked on or before the deadline date listed under DEADLINE FOR TRANSMITTAL OF APPLICATIONS. Mail the application on or before the deadline date to: Application Control Center, Attention: CFDA No. 84.345, Washington, DC 20202-4725 or hand deliver the application by 4:30 p.m. (Washington, DC time) on the deadline date to the same address.

FOR FURTHER INFORMATION CONTACT: Sylvia W. Crowder at: U.S. Department of Education, 8th Floor, 1990 K Street, NW, Washington, DC 20006-8544, by e-mail at: Sylvia_Crowder@ed.gov or by telephone at (202) 502-7514. Information concerning the program can also be found on the Web site of the Department (http://ed.gov). Individuals who use a telecommunications device for the deaf (TDD) may call the Federal Information Relay Service (FIRS) at 1-800-877-8339.

Individuals with disabilities may obtain this document in an alternative format (e.g., Braille, large print, audiotape, or computer diskette) on request to the contact person listed under FOR FURTHER INFORMATION CONTACT. However, the Department is not able to reproduce in an alternative format the standard forms included in this application notice.

Electronic Access to This Document

You may view this document, as well as all other Department of Education documents published in the Federal Register, in text or Adobe Portable Document Format (PDF) on the Internet at either of the following sites:

http://ocfo.ed.gov/fedreg.htm

http://www.ed.gov/news.html

To use PDF you must have Adobe Acrobat Reader, which is available free at either of the previous sites. If you have questions about using PDF, call the U.S. Government Printing Office (GPO), toll free, at 1-888-293-6498; or in the Washington, DC area, at (202) 512-1530.

Note: The official version of this document is the document published in the Federal Register. Free Internet access to the official edition of the Federal Register and the Code of Federal Regulations is available on GPO Access at: http://www.access.gpo.gov/nara/index.html

Program Authority: U.S.C. 1153.

Dated: April 9, 2001.
Maureen A. McLaughlin,
Deputy Assistant Secretary for Policy, Planning and Innovation, Office of Postsecondary Education.

BILLING CODE 4000-01-P

[FR Doc. 01-9126 Filed 4-12-01; 8:45 am]

BILLING CODE 4000-01-C